DEPARTMENT OF TRANSPORTATION

Federal Aviation Administration

14 CFR Part 39

[Docket No. FAA-2005-21595; Directorate Identifier 2002-NM-321-AD; Amendment 39-14245; AD 2005-18-05]

RIN 2120-AA64

Airworthiness Directives; Bombardier Model CL-215-1A10 (Water Bomber), CL-215-6B11 (CL215T Variant), and CL-215-6B11 (CL415 Variant) Airplanes

AGENCY: Federal Aviation Administration (FAA), Department of Transportation (DOT).

ACTION: Final rule.

SUMMARY: The FAA is superseding an existing airworthiness directive (AD), which applies to certain Bombardier Model CL-215-1A10 and CL-215-6B11 series airplanes. That AD currently requires repetitive ultrasonic inspections to detect cracking of the lower caps of the wing front spar and rear spar, and corrective action if necessary. This new AD reduces the threshold to do the initial inspections and revises the repetitive inspection interval. This new AD also adds a repetitive ultrasonic inspection of the wing lower skin. This AD results from reports of cracks in the front and rear spar lower caps. We are issuing this AD to detect and correct cracking of the lower caps of the wing front spar and rear spar, which could result in reduced structural integrity of the airplane.

DATES: This AD becomes effective October 6, 2005.

The Director of the Federal Register approved the incorporation by reference of certain publications listed in the AD as of October 6, 2005.

On March 4, 1998 (63 FR 7640, February 17, 1998), the Director of the Federal Register approved the incorporation by reference of Canadair Alert Service Bulletin 215-A454, Revision 1, dated May 25, 1995; and Canadair Alert Service Bulletin 215-A463, Revision 1, dated May 25, 1995.

ADDRESSES: You may examine the AD docket on the Internet at http://dms.dot.gov or in person at the Docket Management Facility, U.S. Department of Transportation, 400 Seventh Street SW., Nassif Building, Room PL-401, Washington, DC.

Contact Bombardier, Inc., Canadair, Aerospace Group, P.O. Box 6087, Station Centreville, Montreal, Quebec H3C 3G9, Canada, for service information identified in this AD.

FOR FURTHER INFORMATION CONTACT: David Lawson, Aerospace Engineer, Airframe and Propulsion Branch, ANE-171, FAA, New York Aircraft Certification Office, 1600 Stewart Avenue, suite 410, Westbury, New York 11590; telephone (516) 228-7327; fax (516) 794-5531.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 98-04-08, amendment 39-10321 (63 FR 7640, February 17, 1998). The existing AD applies to certain Bombardier Model CL-215-1A10 and CL-215-6B11 series airplanes. That NPRM was published in the Federal Register on June 22, 2005 (70 FR 36075). That NPRM proposed to continue to require repetitive ultrasonic inspections to detect cracking of the lower caps of the wing front spar and rear spar, and corrective action if necessary. That NPRM also proposed to require reducing the threshold in the existing AD for doing the initial inspections and revising the repetitive inspection interval, and to add a repetitive ultrasonic inspection of the wing lower skin.

Comments

We provided the public the opportunity to participate in the development of this AD. No comments have been received on the NPRM or on the determination of the cost to the public.

Explanation of Change in Applicability

We have revised the applicability of the final rule to identify model designations as published in the most recent type certificate data sheet for the affected models.

Conclusion

We have carefully reviewed the available data, and determined that air safety and the public interest require adopting the AD with the change described previously. We have determined that this change will neither increase the economic burden on any operator nor increase the scope of the AD.

Costs of Compliance

This AD affects about 3 airplanes of U.S. registry.

The actions that are required by AD 98-04-08 and retained in this AD take about 16 work hours per airplane, at an average labor rate of $65 per work hour. Based on these figures, the estimated cost of the currently required actions is $1,040 per airplane, per inspection cycle.

The new inspections required by this AD will take about 1 work hour per airplane, at an average labor rate of $65 per work hour. Based on these figures, the estimated cost of the new inspections specified in this AD for U.S. operators is $195 per inspection cycle, or $65 per airplane, per inspection cycle.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-10321 (63 FR 7640, February 17, 1998) and by adding the following new airworthiness directive (AD):

2005-18-05 Bombardier, Inc. (Formerly Canadair): Amendment 39-14245. Docket No. FAA-2005-21595; Directorate Identifier 2002-NM-321-AD.

Effective Date

(a) This AD becomes effective October 6, 2005.

Affected ADs

(b) This AD supersedes AD 98-04-08.

Applicability

(c) This AD applies to Bombardier Model CL-215-1A10 (Water Bomber), CL-215-6B11 (CL215T Variant), and CL-215-6B11 (CL415 Variant) airplanes; certificated in any category; serial numbers 1001 through 1125 inclusive.

Unsafe Condition

(d) This AD results from reports of cracks in the front and rear spar lower caps. We are issuing this AD to detect and correct cracking of the lower caps of the wing front spar and rear spar, which could result in reduced structural integrity of the airplane.

Compliance

(e) You are responsible for having the actions required by this AD performed within the compliance times specified, unless the actions have already been done.

Restatement of Certain Requirements of AD 98-04-08

Initial Inspection of AD 98-04-08 With New Threshold

(f) At the time specified in paragraph (g) of this AD: Perform an ultrasonic inspection to detect cracking of the lower cap of the wing front and rear spars at wing station 51, in accordance with the Accomplishment Instructions of Canadair Alert Service Bulletin 215-A463, Revision 1, dated May 25, 1995, or Bombardier Alert Service Bulletin 215-A463, Revision 2, dated March 13, 2001 (for the front spar); and Canadair Alert Service Bulletin 215-A454, Revision 1, dated May 25, 1995, Bombardier Alert Service Bulletin 215-A454, Revision 2, dated January 27, 1999, or Bombardier Alert Service Bulletin 215-A454, Revision 3, dated March 13, 2001 (for the rear spar). As of the effective date of this AD, the inspection must be done in accordance with the Accomplishment Instructions of Bombardier Alert Service Bulletin 215-A463, Revision 2, dated March 13, 2001 (for the front spar); and Bombardier Alert Service Bulletin 215-A454, Revision 3, dated March 13, 2001 (for the rear spar).

(g) Do the inspections required by paragraph (f) of this AD at the earlier of the times specified in paragraphs (g)(1) and (g)(2) of this AD.

(1) Prior to the accumulation of 3,000 total flight hours, or within 25 flight hours after March 4, 1998 (the effective date of AD 98-04-08), whichever occurs later.

(2) At the later of the times specified in paragraphs (g)(2)(i) and (g)(2)(ii) of this AD.

(i) Prior to the accumulation of 2,500 total flight hours, or 8,000 total water drops, whichever occurs first.

(ii) Within 50 flight hours or 150 water drops after the effective date of this AD, whichever occurs first.

Repetitive Inspections With New Intervals

(h) Repeat the ultrasonic inspection specified in paragraph (f) of this AD at the times specified in paragraph (h)(1) or (h)(2) of this AD, as applicable.

(1) For airplanes on which any ultrasonic inspection required by paragraph (a) of AD 98-04-08 has been done before the effective date of this AD: Within 600 flight hours after the last ultrasonic inspection, do the ultrasonic inspection specified in paragraph (f) of this AD. Repeat the ultrasonic inspection specified in paragraph (f) of this AD thereafter at intervals not to exceed 600 flight hours or 2,000 water drops, whichever occurs first.

(2) For airplanes on which the ultrasonic inspection required by paragraph (a) of AD 98-04-08 has not been done before the effective date of this AD: After accomplishing the initial ultrasonic inspection specified in paragraph (f) of this AD, repeat the ultrasonic inspection specified in paragraph (f) of this AD thereafter at intervals not to exceed 600 flight hours or 2,000 water drops, whichever occurs first.

New Requirements of This AD

New Ultrasonic Inspection

(i) At the later of the times specified in paragraphs (i)(1) and (i)(2) of this AD, do an ultrasonic inspection for cracks of the wing lower skin, in accordance with Bombardier Alert Service Bulletin 215-A454, Revision 3, dated March 13, 2001. Thereafter, do the ultrasonic inspection for cracks of the wing lower skin at the times specified for the ultrasonic inspection in paragraph (h) of this AD.

(1) Within 50 flight hours or 150 water drops after the effective date of this AD, whichever occurs first.

(2) Before further flight after accomplishing the first ultrasonic inspection required by paragraph (f) or (h) of this AD after the effective date of this AD.

Cracking Detected

(j) If any cracking is detected during any inspection required by paragraph (f), (h), or (i) of this AD, before further flight, accomplish paragraphs (j)(1) and (j)(2) of this AD.

(1) Rework the lower cap of the front or rear spar, as applicable, in accordance with the Accomplishment Instructions of Bombardier Alert Service Bulletin 215-A463, Revision 2, dated March 13, 2001 (for the front spar); and Bombardier Alert Service Bulletin 215-A454, Revision 3, dated March 13, 2001 (for the rear spar).

(2) After doing the rework specified in paragraph (j)(1) of this AD, do a general visual inspection, from inside the wing box, to detect cracks of the front spar web or rear spar web, as applicable, and the lower skin area, in accordance with the Accomplishment Instructions of Bombardier Alert Service Bulletin 215-A463, Revision 2, dated March 13, 2001 (for the front spar); and Bombardier Alert Service Bulletin 215-A454, Revision 3, dated March 13, 2001 (for the rear spar). If any cracking is detected, before further flight, repair in accordance with a method approved by the Manager, New York Aircraft Certification Office (ACO), FAA; or Transport Canada Civil Aviation (TCCA) (or its delegated agent).

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Actions Accomplished According to Previous Issues of the Service Bulletins

(k) Actions accomplished before the effective date of this AD in accordance with Canadair Alert Service Bulletin 215-A463, dated April 8, 1993; Canadair Alert Service Bulletin 215-A463, Revision 1, dated May 25, 1995; Canadair Alert Service Bulletin 215-A454, dated October 13, 1993; Canadair Alert Service Bulletin 215-A454, Revision 1, dated May 25, 1995; and Bombardier Alert Service Bulletin 215-A454, Revision 2, dated January 27, 1999; are considered acceptable for compliance with the corresponding actions specified in this AD.

Actions Accomplished According to Alert Wire

(l) Actions accomplished before the effective date of this AD in accordance with Bombardier Alert Wire 215-A454, dated December 23, 1992; and Bombardier Alert Wire 215-A463, dated March 26, 1993; are considered acceptable for compliance with the corresponding actions specified in this AD.

Reporting Requirement

(m) For any inspection required by this AD that is accomplished after the effective date of this AD, within 30 days after accomplishing the inspection, submit a report of any inspection results (both positive and negative findings) to Bombardier, Inc., Canadair, Aerospace Group, P.O. Box 6087, Station Centre-ville, Montreal, Quebec H3C 3G9, Canada. Under the provisions of the Paperwork Reduction Act of 1980 (44 U.S.C. 3501 et seq.), the Office of Management and Budget (OMB) has approved the information collection requirements contained in this AD, and assigned OMB Control Number 2120-0056.

Alternative Methods of Compliance (AMOCs)

(n) The Manager, New York ACO, FAA, has the authority to approve AMOCs for this AD, if requested in accordance with the procedures found in 14 CFR 39.19.

Related Information

(o) Canadian airworthiness directives CF-1992-26R1, dated September 24, 2002, and CF-1993-07R1, dated September 25, 2002, also address the subject of this AD.

Material Incorporated by Reference

(p) You must use the service information listed in Table 1 of this AD to perform the actions that are required by this AD, unless the AD specifies otherwise.

Table 1.—Material Incorporated by Reference
Service bulletin | Revision level | Date
Bombardier Alert Service Bulletin 215-A454 | 2 | January 27, 1999.
Bombardier Alert Service Bulletin 215-A454 | 3 | March 13, 2001.
Bombardier Alert Service Bulletin 215-A463 | 2 | March 13, 2001.
Canadair Alert Service Bulletin 215-A454 | 1 | May 25, 1995.
Canadair Alert Service Bulletin 215-A463 | 1 | May 25, 1995.

(1) The Director of the Federal Register approved the incorporation by reference of the documents listed in Table 2 of this AD in accordance with 5 U.S.C. 552(a) and 1 CFR part 51.

Table 2.—Material Newly Incorporated by Reference
Service bulletin | Revision level | Date
Bombardier Alert Service Bulletin 215-A454 | 2 | January 27, 1999.
Bombardier Alert Service Bulletin 215-A454 | 3 | March 13, 2001.
Bombardier Alert Service Bulletin 215-A463 | 2 | March 13, 2001.

(2) The Director of the Federal Register approved the incorporation by reference of the service information listed in Table 3 of this AD on March 4, 1998 (63 FR 7640, February 17, 1998).

Table 3.—Material Previously Incorporated by Reference
Service bulletin | Revision level | Date
Canadair Alert Service Bulletin 215-A454 | 1 | May 25, 1995.
Canadair Alert Service Bulletin 215-A463 | 1 | May 25, 1995.

(3) Contact Bombardier, Inc., Canadair, Aerospace Group, P.O. Box 6087, Station Centre-ville, Montreal, Quebec H3C 3G9, Canada, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 24, 2005.
Ali Bahrami,
Manager, Transport Airplane Directorate, Aircraft Certification Service.

[FR Doc. 05-17323 Filed 8-31-05; 8:45 am]

BILLING CODE 4910-13-P